DEPARTMENT OF COMMERCE

Submission for OMB Review; Comment Request

The Department of Commerce has submitted to the Office of Management and Budget (OMB) for clearance the following proposal for collection of information under the provisions of the Paperwork Reduction Act (44 U.S.C. Chapter 35).

Agency: National Institute of Standards and Technology.

Title: Manufacturing Extension Partnership (MEP) Client Impact Surveys.

Form Number(s): None.

OMB Approval Number: 0693-0021.

Type of Review: Regular submission.

Burden Hours: 1,083.

Number of Respondents: 6,500.

Average Hours Per Response: 10 minutes.

Needs and Uses: This collection allows the MEP Program to obtain specific information from clients served by the program to evaluate program strengths and weaknesses in order to plan for improvements in program effectiveness and efficiency.

Affected Public: Business or other for-profit organizations.

Frequency: Annually.

Respondent's Obligation: Voluntary.

OMB Desk Officer: Jacqueline Zeiher, (202) 395-4638.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, Room 10202, New Executive Office Building, Washington, DC 20503.

Dated: July 22, 2005.
Gwellnar Banks,
Management Analyst, Office of the Chief Information Officer.

[FR Doc. 05-14910 Filed 7-27-05; 8:45 am]

BILLING CODE 3510-13-P